DEPARTMENT OF THE INTERIOR

Bureau of Land Management

[LLOROR957000-L62510000-PM000: HAG10-0001]

Filing of Plats of Survey: Oregon/Washington

AGENCY: Bureau of Land Management, Interior.

ACTION: Notice.

SUMMARY: The plats of survey of the following described lands are scheduled to be officially filed in the Bureau of Land Management Oregon/Washington State Office, Portland, Oregon, 30 days from the date of this publication.

Willamette Meridian

Oregon

T. 39 S., R. 3 E., accepted September 21, 2009

T. 29 S., R. 12 W., accepted September 25, 2009

T. 27 S., R. 3 W., accepted September 30, 2009

T. 27 S., R. 4 W., accepted September 30, 2009

T. 30 S., R. 8 W., accepted September 30, 2009

Washington

T. 21 N., R. 12 W., accepted September 21, 2009

T. 12 N., R. 17 E., accepted September 28, 2009

ADDRESSES: A copy of the plats may be obtained from the Land Office at the Oregon/Washington State Office, Bureau of Land Management, 333 SW. 1st Avenue, Portland, Oregon 97204, upon required payment. A person or party who wishes to protest against a survey must file a notice that they wish to protest (at the above address) with the Oregon/Washington State Director, Bureau of Land Management, Portland, Oregon.

FOR FURTHER INFORMATION CONTACT: Chief, Branch of Geographic Sciences, Bureau of Land Management, 333 SW. 1st Avenue, Portland, Oregon 97204.

Dated: October 7, 2009.
Fred O'Ferrall,
Branch of Lands and Minerals Resources.

[FR Doc. E9-24948 Filed 10-15-09; 8:45 am]

BILLING CODE 4310-33-P